ENVIRONMENTAL PROTECTION AGENCY

40 CFR Part 55

[EPA-R04-OAR-2008-0605; FRL-8769-5]

Outer Continental Shelf Air Regulations Consistency Update for Florida

AGENCY: Environmental Protection Agency (EPA).

ACTION: Final rule; correction.

SUMMARY: On December 31, 2008, EPA published a document finalizing the update of the Florida Outer Continental Shelf (OCS) Air Regulations. That document inadvertently listed the incorrect filing action date for petitions for judicial review. This document corrects that inadvertent error.

DATES: Effective Date: This rule is effective on February 26, 2009.

FOR FURTHER INFORMATION CONTACT: Sean Lakeman, Air Permit Section, Air Planning Branch, Air, Pesticides and Toxics Management Division, U.S. Environmental Protection Agency, Region 4, 61 Forsyth Street, SW., Atlanta, Georgia 30303-8960. The telephone number is (404) 562-9043. Mr. Lakeman can also be reached via electronic mail at lakeman.sean@epa.gov.

SUPPLEMENTARY INFORMATION: EPA is making a correction to the document published on December 31, 2008 (73 FR 78196), finalizing the update of the Florida OCS Air Regulations. EPA made an inadvertent error on page 78197, column 2, last full paragraph. This paragraph begins with the phrase, “Under section 307(b)(1) of the CAA, petitions for judicial review of this action must be filed in the United States Court of Appeals for the appropriate circuit by November 17, 2008”. This date does not correctly allow for the 60 day filing period. EPA is now correcting the date on page 78197, column 2, last full paragraph by replacing it with the following date: “March 1, 2009”.

Authority: 42 U.S.C. 7401 et seq.

Dated: January 20, 2009.
A. Stanley Meiburg,
Acting Regional Administrator, Region 4.

[FR Doc. E9-4123 Filed 2-25-09; 8:45 am]

BILLING CODE 6560-50-P